DEPARTMENT OF TRANSPORTATION

National Highway Traffic Safety Administration

[Docket No. NHTSA 2000-8461; Notice 1]

Continental General Tire, Inc., Receipt of Application for Decision of Inconsequential Noncompliance

Continental General Tire, Inc., (Continental) has determined that approximately 3,187 P255/70R16 Ameri*660 AS passenger car tires do not meet the labeling requirements mandated by Federal Motor Vehicle Safety Standard (FMVSS) No. 109, “New Pneumatic Tires.” FMVSS No. 109 requires that each tire shall have permanently molded into or onto both sidewalls the actual number of plies in the sidewall, and the actual number of plies in the tread area if different. (S4.3(e)).

Pursuant to 49 U.S.C. 30118(d) and 30120(h), Continental has petitioned for a determination that this noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The noncompliance with S4.3(e) relates to the mold number. Mold number 33460 ran for the production period of June 14, 2000 through July 29, 2000 with an incorrect sideplate on the bottom sidewall. This sideplate was not changed from a previous production run in which the construction was different. The stamping at the rim line read: “Tread 6 plies—2 Steel + 2 Polyester + 2 Nylon.” It should have read: “Tread 4 Plies—2 Steel + 2 Polyester.”

The manufacturer also said that “A second item should be included, which is not part of the FMVSS 109 requirement, but is considered a labeling inconsistency. The load index/speed rating stamping located on the bottom sidewall at both upper sidewall and rim line reads 109H should be 109S.”

The P255/70R16 General Ameri*660 AS primarily is supplied to General Motors (GM) for original equipment pick up truck application.

Continental states that all molded labeling items on the LW outboard (customer) sidewall are correct and that a label showing correct identification is affixed to the tread. The customer would be sold the product for designed usage and the incorrect information would be on the inboard (non-customer) sidewall.

This situation has been reviewed with representatives of GM and they have indicated their support of registering this problem as an inconsequential noncompliance. Continental believes that there is no safety-related issue with respect to this equipment.

Interested persons are invited to submit written data, views, and arguments on the application described above. Comments should refer to the docket number and be submitted to: U.S. Department of Transportation, Docket Management, Room PL-401, 400 Seventh Street, SW, Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: January 16, 2001.

(49 U.S.C. 301118, 301120; delegations of authority at 49 CFR 1.50 and 501.8)

Issued on: December 11, 2000.
Stephen R. Kratzke,
Associate Administrator for Safety Performance Standards.

[FR Doc. 00-31977 Filed 12-14-00; 8:45 am]

BILLING CODE 4910-59-P